FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at 202/523-5793 or tradeanalysis@fmc.gov.

Agreement No.: 012032-010.

Title: CMA CGM/MSC/Maersk Line North and Central China-U.S. Pacific Coast Three-Loop Space Charter, Sailing and Cooperative Working Agreement.

Parties: A.P. Moller-Maersk A/S, CMA CGM S.A., and MSC Mediterranean Shipping Company SA.

Filing Party: Wayne R. Rohde, Esq.; Cozen O'Connor; 1627 I Street NW., Suite 1100; Washington, DC 20006.

Synopsis: The amendment extends the duration of the agreement.

Agreement No.: 012073-003.

Title: MSC/CSAV Group Vessel Sharing Agreement.

Parties: MSC Mediterranean Shipping Company SA; Compaňia Sud Americana de Vapores S.A.; Companhia Libra de Navegacao; and Compania Libra de Navegacion Uruguay S.A..

Filing Party: Wayne R. Rohde, Esq.; Cozen O'Connor; 1627 I Street NW., Suite 1100; Washington, DC 20006-4007.

Synopsis: The amendment would decrease CSAV Group's space allocation and make the corresponding changes to MSC's space allocation.

Agreement No.: 012199-001.

Title: NYK/Hyundai Americas North-South Service Slot Charter Agreement.

Parties: Nippon Yusen Kaisha and Hyundai Merchant Marine Co., Ltd.

Filing Party: Robert Shababb; NYK Line (North America) Inc.; 300 Lighting Way, 5th Floor; Secaucus, NJ 07094.

Synopsis: The agreement deletes Hanjin from the agreement and updates the slot charter amounts.

Agreement No.: 012260.

Title: MSC/Maersk Line USEC-WCSA Space Charter Agreement.

Parties: MSC Mediterranean Shipping Company SA. and A.P. Moller-Maersk A/S.

Filing Party: Wayne R. Rohde, Esq.; Cozen O'Connor; 1627 I Street NW., Suite 1100; Washington, DC 20006.

Synopsis: The agreement authorizes MSC to charter space to Maersk Line in the trade between the U.S. East Coast, on the one hand, and ports in the Bahamas, Panama, Colombia (Pacific Coast only), Ecuador, Peru, and Chile, on the other hand.

Agreement No.: 012261.

Title: Eukor Car Carriers, Inc./Liberty Global Logistics LLC Space Charter Agreement.

Parties: Eukor Car Carriers, Inc. and Liberty Global Logistics LLC.

Filing Party: Brooke F. Shapiro; Winston & Strawn LLP; 200 Park Avenue; New York, NY 10166.

Synopsis: The agreement authorizes Eukor and Liberty Global Logistics to charter space to each other on an ad hoc basis in the trade between the U.S. East and Gulf Coasts, on the one hand, and ports along the Arabian Sea, Red Sea, Persian Gulf and Middle East, India and Pakistan, on the other hand.

Agreement No.: 012262.

Title: The G6/Hanjin Vessel Sharing Agreement.

Parties: American President Lines, Ltd. and APL Co. Pte, Ltd. (operating as one party); Hapag-Lloyd AG; Hyundai Merchant Marine Co., Ltd.; Mitsui O.S.K. Lines, Ltd.; Nippon Yusen Kaisha; Orient Overseas Container Line, Limited (all acting as a single party); and Hanjin Shipping Co., Ltd.

Filing Party: David F. Smith, Esq.; Cozen O'Connor; 1627 I Street NW., Suite 1100; Washington, DC 20006.

Synopsis: The agreement would authorize the parties to share vessels in the trade between the U.S. West Coast and Asia.

By Order of the Federal Maritime Commission.
Dated: April 11, 2014.
Rachel E. Dickon,
Assistant Secretary.

[FR Doc. 2014-08655 Filed 4-15-14; 8:45 am]

BILLING CODE P